DEPARTMENT OF LABOR

Employment and Training Administration

[TA-W-73,951]

ETHICON, a Subsidiary of Johnson & Johnson Including On-Site Leased Workers From Kelly Temporary Services, San Angelo, TX; Amended Certification Regarding Eligibility To Apply for Worker Adjustment Assistance

In accordance with Section 223 of the Trade Act of 1974, as amended (“Act”), 19 U.S.C. 2273, the Department of Labor issued a Certification of Eligibility to Apply for Worker Adjustment Assistance on August 20, 2010, applicable to workers of ETHICON, a subsidiary of Johnson & Johnson, including on-site leased workers from Kelly Temporary Services, San Angelo, Texas. The workers are engaged in the production of surgical sutures. The notice was published in the Federal Register on September 3, 2010 (75 FR 54186).

At the request of the State Agency, the Department reviewed the certification for workers of the subject firm. The review shows that on February 1, 2008, a certification of eligibility to apply for adjustment assistance was issued for all workers of ETHICON, A Johnson and Johnson Company, San Angelo, Texas, separated from employment on or after June 9, 2007 through February 1, 2010. The notice was published in the Federal Register on February 13, 2008 (73 FR 8369).

In order to avoid an overlap in worker group coverage, the Department is amending the April 13, 2009 impact date established for TA-W-73,951, to read February 2, 2010.

The amended notice applicable to TA-W-73,951 is hereby issued as follows:

All workers of ETHICON, a subsidiary of Johnson & Johnson, including on-site leased workers from Kelly Temporary Services, San Angelo, Texas, who became totally or partially separated from employment on or after February 2, 2010, through August 20, 2012, and all workers in the group threatened with total or partial separation from employment on date of certification through two years from the date of certification, are eligible to apply for adjustment assistance under Chapter 2 of Title II of the Trade Act of 1974, as amended.

Signed in Washington, DC this 15th day of March, 2011.
Michael W. Jaffe,
Certifying Officer, Office of Trade Adjustment Assistance.

[FR Doc. 2011-6807 Filed 3-22-11; 8:45 am]

BILLING CODE 4510-FN-P